DEPARTMENT OF HOUSING AND URBAN DEVELOPMENT

[Docket No. FR-5521-D-01]

Delegation of Authority for the Office of Departmental Equal Employment Opportunity

AGENCY: Office of the Secretary, HUD.

ACTION: Notice of delegation of authority.

SUMMARY: In this notice, the Secretary of HUD delegates concurrent authority to the Director and Deputy Director, Office of Departmental Equal Employment Opportunity (ODEEO) with respect to all matters pertaining to the work of ODEEO and supersedes any prior delegation of authority from the Secretary to the Director, ODEEO.

DATES: Effective Date: June 14, 2011.

FOR FURTHER INFORMATION CONTACT: Michelle A. Cottom, Acting Director, Office of Departmental Equal Employment Opportunity, Department of Housing and Urban Development, Room 2134, 451 7th Street, SW., Washington, DC 20410-6000, telephone number 202-402-5627. (This is not a toll-free number.) Persons with hearing or speech impairments may access this number through TTY by calling the toll-free Federal Relay Service at 1-800-877-8339.

SUPPLEMENTARY INFORMATION: For HUD, a commitment to equal opportunity is fundamental, not only relative to the public's expectations of fair housing without discrimination, but also to HUD's employment of a workforce that reflects the communities it serves. HUD remains committed to building a leading equal employment opportunity (EEO) program. Section 1614.102 of title 29, Code of Federal Regulations requires that the agency's EEO program be organized and structured to maintain a workplace that is free from discrimination in any of the agency's policies, procedures, or practices. It also provides that the EEO program support the agency's strategic mission and that the ODEEO Director be under the direct supervision of the agency head. The ODEEO Director, Deputy Director, and other ODEEO professional staff that are responsible for EEO programs must have regular and effective means of informing the agency head and senior management officials of the status of EEO programs and must be involved in, and consulted on, management/personnel actions.

Section A. Authority Delegated

The Secretary hereby delegates to the Director and Deputy Director, ODEEO concurrent authority and responsibility to promulgate and implement all policies, procedures, and practices to operate a model EEO program. The Secretary may revoke the authority authorized herein, in whole or part, at any time.

Section B. Authority Excepted

The authority delegated in this document does not include the authority to sue or be sued or to issue or waive regulations.

Section C. Authority To Redelegate

The authority delegated in this document may be redelegated.

Section D. Authority Superseded

This delegation supersedes any previous delegations of authority from the Secretary to the Director, ODEEO.

Authority: Section 7(d) of the United States Department of Housing and Urban Development Act, 42 U.S.C. 3535(d).

Dated: June 14, 2011.
Shaun Donovan,
Secretary .

[FR Doc. 2011-15512 Filed 6-21-11; 8:45 am]

BILLING CODE 4210-67-P